DEPARTMENT OF HEALTH AND HUMAN SERVICES

National Institutes of Health

Submission for OMB Review; 30-Day Comment Request Process and Outcomes Evaluation of NCI Physical Sciences in Oncology Centers (PS-OC) Initiative (NCI)

SUMMARY: Under the provisions of section 3507(a)(1)(D) of the Paperwork Reduction Act of 1995, the National Institutes of Health (NIH), has submitted to the Office of Management and Budget (OMB) a request for review and approval of the information collection listed below. This proposed information collection was previously published in the Federal Register on March 23, 2015 Vol. 80, P. 15228 and allowed 60-days for public comment. No comments were received. The purpose of this notice is to allow an additional 30 days for public comment. The National Cancer Institute (NCI), National Institutes of Health, may not conduct or sponsor, and the respondent is not required to respond to, an information collection that has been extended, revised, or implemented on or after October 1, 1995, unless it displays a currently valid OMB control number.

Direct Comments to OMB: Written comments and/or suggestions regarding the item(s) contained in this notice, especially regarding the estimated public burden and associated response time, should be directed to the: Office of Management and Budget, Office of Regulatory Affairs, OIRA_submission@omb.eop.gov or by fax to 202-395-6974, Attention: NIH Desk Officer.

Comment Due Date: Comments regarding this information collection are best assured of having their full effect if received within 30-days of the date of this publication.

FOR FURTHER INFORMATION CONTACT: To obtain a copy of the data collection plans and instruments or request more information on the proposed project contact: Nicole Moore, Division of Cancer Biology, 9609 Medical Center Drive, Room 6W508, Bethesda, MD 20892-9714 or call non-toll-free number 301-325-7534 or Email your request, including your address to: Nicole.Moore@nih.gov. Formal requests for additional plans and instruments must be requested in writing.

Proposed Collection: Process and Outcomes Evaluation of NCI Physical Sciences in Oncology Centers (PS-OC) Initiative (NCI), 0925-NEW, National Cancer Institute (NCI), National Institutes of Health (NIH).

Need and Use of Information Collection: The NCI launched the Physical Sciences—Oncology Center (PS-OC; http://physics.cancer.gov/) program in 2009 as Phase I of the Physical Sciences in Oncology (PSO) Initiative. The PSO Initiative seeks to establish research projects that bring together cancer biologists and oncologists with scientists from the fields of physics, mathematics, chemistry, and engineering to address some of the major questions and barriers in cancer research. As part of this initiative, evaluation plans were developed and consisted of three components, dependent on which year the initiative is in: Prospective for beginning, structured for mid-point, and summative/full outcome evaluation for a decade after the program started. In 2015 the PSO Initiative is transitioning from the beginning to a mid-point phase, which represents a critical time to reflect on the initial outcomes and restructure the process evaluation to account for changes mid-way through the initiative. This proposed request is to conduct on-line surveys with current and former trainees and NCI grantees associated with the program and comparison groups. Additionally, an assessment of publications generated through the PS-OC program will be conducted via a virtual expert review panel. The evaluation will address trainee development and career path post program involvement as well as the impact of the program involvement on program outputs. Results from both the surveys and the expert peer reviewer panel will assess research innovation from the program and inform the future development of the PSO Initiative. This request is to gain OMB approval for the new submission titled, “Process and Outcomes Evaluation of NCI Physical Sciences in Oncology Centers (PS-OC) Initiative (NCI)” for 1 year.

OMB approval is requested for 1 year. There are no costs to respondents other than their time. The total estimated annualized burden hours are 955.

Estimated Annualized Burden Hours
Instrument | Type of respondent | Number of respondents | Number of responses per respondent | Average burden per response (in hours) | Total annual burden hour
Survey | Current NCI Trainees | 210 | 1 | 25/60 | 88
Survey | Former NCI Trainees | 340 | 1 | 25/60 | 142
Survey | NCI Grantees | 300 | 1 | 25/60 | 125
Scoring Sheet | Expert Reviewers | 75 | 1 | 8 | 600

Dated: July 15, 2015.
Karla Bailey,
NCI Project Clearance Liaison, National Institutes of Health.

[FR Doc. 2015-17859 Filed 7-21-15; 8:45 am]

BILLING CODE 4140-01-P